NATIONAL AERONAUTICS AND SPACE ADMINISTRATION

[Notice (07-087)]

Government-Owned Inventions, Available for Licensing

AGENCY: National Aeronautics and Space Administration.

ACTION: Notice of Availability of Inventions for Licensing.

SUMMARY: The inventions listed below assigned to the National Aeronautics and Space Administration, have been filed in the United States Patent and Trademark Office, and are available for licensing.

DATES: December 7, 2007.

FOR FURTHER INFORMATION CONTACT: Robert M. Padilla, Patent Counsel, Ames Research Center, Code 202A-4, Moffett Field, CA 94035-1000; telephone (650) 604-5104; fax (650) 604-2767.

NASA Case No. ARC-15981-1: Chaperonin-Based Templates for Pseudo-Cellulosomes;

NASA Case No. ARC-16059-1: Adaptive Control Method for Aircraft with Modified Control System;

NASA Case No. ARC-15173-2: Nanoengineered Thermal Materials Based on Carbon Nanotube Array Composites;

NASA Case No. ARC-15668-1: Pyrotechnic Rotary Valve Actuator.

Dated: November 30, 2007.
Keith T. Sefton,
Deputy General Counsel, Administration and Management.

[FR Doc. E7-23737 Filed 12-6-07; 8:45 am]

BILLING CODE 7510-13-P